DEPARTMENT OF THE INTERIOR

Bureau of Land Management

[13XL1109AF LLWO260000 L10600000.HG0000]

Renewal of Approved Information Collection

AGENCY: Bureau of Land Management, Interior.

ACTION: 60-Day notice and request for comments.

SUMMARY: In compliance with the Paperwork Reduction Act, the Bureau of Land Management (BLM) invites public comments on, and plans to request approval to continue, the collection of information from those who wish to adopt and obtain title to wild horses and burros. The Office of Management and Budget (OMB) has assigned control number 1004-0042 to this information collection.

DATES: Please submit comments on the proposed information collection by November 25, 2013.

ADDRESSES: Comments may be submitted by mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0042” regardless of the form of your comments.

FOR FURTHER INFORMATION CONTACT: Sally Spencer, at 202-912-7265. Persons who use a telecommunication device for the deaf may call the Federal Information Relay Service at 1-800-877-8339, to leave a message for Ms. Spencer.

SUPPLEMENTARY INFORMATION: OMB regulations at 5 CFR part 1320, which implement provisions of the Paperwork Reduction Act, 44 U.S.C. 3501-3521, require that interested members of the public and affected agencies be given an opportunity to comment on information collection and recordkeeping activities (see 5 CFR 1320.8(d) and 1320.12(a)). This notice identifies an information collection that the BLM plans to submit to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

Before including your address, phone number, email address, or other personal identifying information in your comment, you should be aware that your entire comment—including your personal identifying information—may be made publicly available at any time. While you can ask us in your comment to withhold your personal identifying information from public review, we cannot guarantee that we will be able to do so.

The following information is provided for the information collection:

Title: Protection, Management, and Control of Wild Horses and Burros (43 CFR part 4700).

OMB Control Number: 1004-0042.

Summary: This notice pertains to the collection of information that enables the BLM to administer its private maintenance (i.e., adoption) program for wild horses and burros. The BLM uses the information to determine if applicants are qualified to provide humane care and proper treatment to wild horses and burros in compliance with the Wild Free-Roaming Horses and Burros Act (16 U.S.C. 1331-1340).

Frequency of Collection: On occasion.

Forms: Form 4710-10, Application for Adoption of Wild Horse(s) or Burro(s).

Description of Respondents: Those who wish to adopt and obtain title to wild horses and burros.

Estimated Annual Responses: 7,124.

Estimated Annual Burden Hours: 1,226.

Estimated Annual Non-Hour Costs: $1,850.

The estimated annual burdens are itemized in the following table:

Type of response | Number of responses | Time per response (minutes) | Total hours (column B × column C)
A. | B. | C. | D.
Application for Adoption of Wild Horse(s) or Burro(s), 43 CFR 4750.3-1 and 4750.3-2, Form 4710-10 | 7,000 | 10 | 1,167
Supporting Information and Certification for Private Maintenance of More Than Four Wild Horses or Burros, 43 CFR 4750.3-3 | 12 | 10 | 2
Request to Terminate Private Maintenance and Care Agreement, 43 CFR 4750.4-3 | 99 | 30 | 50
Request for Replacement Animals or Refund, 43 CFR 4750.4-4 | 13 | 30 | 7
Totals | 7,124 |  | 1,226

Jean Sonneman,
Bureau of Land Management, Information Collection Clearance Officer.

[FR Doc. 2013-23342 Filed 9-24-13; 8:45 am]

BILLING CODE 4310-84-P